DEPARTMENT OF HOMELAND SECURITY

Federal Emergency Management Agency

Agency Information Collection Activities: Submission for OMB Review; Comment Request

AGENCY: Federal Emergency Management Agency, Department of Homeland Security.

ACTION: Notice and request for comments.

SUMMARY: The Federal Emergency Management Agency (FEMA) has submitted the following information collection to the Office of Management and Budget (OMB) for review and clearance in accordance with the requirements of the Paperwork Reduction Act of 1995. The submission describes the nature of the information collection, the categories of respondents, the estimated burden (i.e., the time, effort and resources used by respondents to respond) and cost, and includes the actual data collection instruments FEMA will use.

Title: Application for Community Disaster Loan Program (CDL)/Special Community Disaster Loan Program (SCDL).

OMB Number: 1660-0083.

Abstract: The Application for Community Disaster Loan (CDL) Program and the Special Community Disaster Loan Program (SCDL) provide States, Local and Tribal governments that have suffered substantial loss of tax or other revenues as a result of a major disaster or emergency, the opportunity to obtain financial assistance in order to perform their governmental functions.

Affected Public: State, local, or tribal government.

Number of Respondents: 103.

Estimated Time per Respondent: Burden for this collection is 15.2 hours for the Traditional CDL and 13.4 hours for the Special CDL.

Estimated Total Annual Burden Hours: 1,812.

Frequency of Response: Once.

Comments: Interested persons are invited to submit written comments on the proposed information collection to the Office of Information and Regulatory Affairs at OMB, Attention: Desk Officer for the Department of Homeland Security/FEMA, Docket Library, Room 10102, 725 17th Street, NW., Washington, DC 20503, or facsimile number (202) 395-7285. Comments must be submitted on or before May 15, 2006.

FOR FURTHER INFORMATION CONTACT: Requests for additional information or copies of the information collection should be made to Chief, Records Management, FEMA, 500 C Street, SW., Room 316, Washington, DC 20472, facsimile number (202) 646-3347, or e-mail address FEMA-Information-Collections@dhs.gov.

Dated: April 5, 2006.
Deborah Moradi,
Acting Branch Chief, Information Resources Management Branch, Information Technology Services Division.

[FR Doc. E6-5534 Filed 4-13-06; 8:45 am]

BILLING CODE 9110-10-P